DEPARTMENT OF ENERGY

Federal Energy Regulatory Commission

Sunshine Act Meeting Notice

February 12, 2009.

The following notice of meeting is published pursuant to section 3(a) of the government in the Sunshine Act (Pub. L. No. 94-409), 5 U.S.C. 552b:

Agency Holding Meeting: Federal Energy Regulatory Commission.

Date And Time: February 19, 2009; 10 a.m.

Place: Room 2C, 888 First Street, NE., Washington, DC 20426.

Status: Open.

Matters To Be Considered: Agenda

* Note—items listed on the agenda may be deleted without further notice.

FOR MORE INFORMATION CONTACT: Kimberly D. Bose, Secretary, Telephone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

945th—Meeting, Regular Meeting
[February 19, 2009, 10 a.m.]
Item No. | Docket No. | Company
Administrative
A-1 | AD02-1-000 | Agency Administrative Matters.
A-2 | AD02-7-000 | Customer Matters, Reliability, Security and Market Operations.
A-3 | AD06-3-000 | Energy Market Update.
Electric
E-1 | ER08-637-000, ER08-637-001, ER08-637-004, ER08-637-005 | Midwest Independent Transmission System Operator, Inc. and Transmission Owners of the Midwest Independent Transmission System Operator, Inc.
E-2 | ER08-394-004, ER08-394-005 | Midwest Independent Transmission System Operator, Inc.
E-3 | ER08-394-006, ER08-394-008 | Midwest Independent Transmission System Operator, Inc.
E-4 | EL08-47-000 | PJM Interconnection, LLC.
E-5 | EC08-78-000 | Cinergy Corporation.
| EL08-61-000 | Duke Energy Ohio, Inc.
|  | Cinergy Power Investments, Inc.
|  | Generating Facility LLCs.
E-6 | EC09-36-000 | EDF Development, Inc.
|  | Constellation Energy Group, Inc.
|  | Handsome Lake Energy, LLC.
| EC09-37-000 | EDF Development, Inc.
|  | Constellation Energy Group, Inc.
|  | CER Generation II, LLC.
| EC09-38-000 | EDF Development, Inc.
|  | Constellation Energy Group, Inc.
| EC09-39-000 | EDF Development, Inc.
|  | Constellation Energy Group, Inc.
|  | Constellation Power Source Generation LLC.
| EC09-41-000 | EDF Development, Inc.
|  | Constellation Energy Group, Inc.
|  | Constellation Power Source Generation LLC.
| EC09-42-000 | EDF Development, Inc.
|  | Constellation Energy Group, Inc.
| EC09-43-000 | EDF Development, Inc.
|  | Constellation Energy Group, Inc.
| EC09-44-000 | EDF Development, Inc.
|  | Constellation Energy Group, Inc.
|  | Constellation Power Source Generation LLC.
| EC09-45-000 | EDF Development, Inc.
|  | EDF Development, Inc.
|  | Constellation Energy Group, Inc.
| EC09-46-000 | EDF Development, Inc.
|  | Constellation Energy Group, Inc.
|  | Constellation Power Source Generation LLC.
E-7 | EC09-40-000 | EDF Development, Inc.
|  | Constellation Energy Group, Inc.
|  | Constellation Energy Nuclear Group, LLC.
E-8 | ER08-637-006 | Midwest Independent Transmission System Operator, Inc.
E-9 | RM08-3-001 | Mandatory Reliability Standard for Nuclear Plant Interface Coordination.
E-10 | RR07-16-004 | North American Electric Reliability Corporation.
E-11 | ER09-240-000 | California Independent System Operator Corporation.
E-12 | ER06-615-026, ER07-1257-008 | California Independent System Operator Corporation.
E-13 | ER08-1059-001, ER06-615-031, ER07-1257-009, ER08-519-003 | California Independent System Operator Corporation.
E-14 | ER08-1178-000, EL08-88-000 | California Independent System Operator Corporation.
E-15 | ER09-432-000, | Chinook Power Transmission, LLC.
| ER09-433-000 | Zephyr Power Transmission, LLC.
E-16 | EL05-61-000 | Con Edison Energy, Inc. v. ISO New England Inc. and New England Power Pool.
E-17 | EL07-78-001 | 330 Fund I, L.P. v. New York Independent System Operator, Inc.
E-18 | ER06-1474-005, ER06-1474-006 | PJM Interconnection, LLC.
E-19 | ER02-2001-010 | Electric Quarterly Reports.
| ER05-1420-000 | Lehman Brothers Commodities Services Inc.
| ER06-1152-000 | Celeren Corporation.
| ER07-1247-000 | FC Energy Services Company, LLC.
E-20 | ER09-446-000, ER08-1343-000, ER08-1353-000, ER09-187-000, ER09-187-001, EL09-19-000 | Southern California Edison Company.
E-21 | OMITTED
Gas
G-1 | RM96-1-029 | Standards for Business Practices for Interstate Natural Gas Pipelines.
G-2 | RP07-504-000 | Algonquin Gas Transmission, LLC.
Hydro
H-1 | P-12897-001 | BPUS Generation Development, LLC.
| P-13117-001 | Forest County Hydroelectric Corporation.
H-2 | P-2145-060 | Public Utility District No. 1 of Chelan County, Washington.
H-3 | P-4306-023 | City of Hastings, Minnesota.
H-4 | P-6066-034 | McCallum Enterprises I, Limited Partnership.

Certificates

There are no Certificate items scheduled at this time.

Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-3446 Filed 2-17-09; 8:45 am]

BILLING CODE 6717-01-P